DEPARTMENT OF TRANSPORTATION

Federal Highway Administration

Environmental Impact Statement for the Burlington Northern Santa Fe Rail Yard; Vancouver, WA

AGENCY: Federal Highway Administration (FHWA), DOT.

ACTION: Notice of Intent.

SUMMARY: The FHWA is issuing this notice to advise the public that an environmental impact statement (EIS) will be prepared for a proposed rail improvement at the Burlington Northern Santa Fe (BNSF) rail yard in Vancouver, Washington, and for the possible elimination of the 39th Street Crossing, which falls within the limits of the yard.

FOR FURTHER INFORMATION CONTACT: Gary S. Hughes, Federal Highway Administration, Evergreen Plaza Building, 711 South Capitol Way, Suite 501, Olympia, Washington 98501, Telephone: (360) 753-9025; Mr. James Slakey, Washington State Department of Transportation, 310 Maple Park East, Olympia, Washington, 98504, Telephone: (360) 705-7920.

SUPPLEMENTARY INFORMATION: The FHWA in cooperation with the Washington State Department of Transportation (WSDOT) will prepare an environmental impact statement (EIS) on the Vancouver Rail Project, a proposal to construct a multi-track bypass of the existing Burlington Northern Santa Fe (BNSF) yard facility in Vancouver, Washington, including the possible elimination of the 39th Street at-grade crossing located within the limits of the BNSF yard.

Six preliminary alternatives, including the no-action, are currently under consideration. The five build alternatives all include construction of a multi-track bypass along the eastern edge of the BNSF yard, but differ on what would be done to the 39th Street at-grade crossing. The alternatives for the 39th Street crossing include leaving the crossing as is, closing the crossing, closing the crossing and providing a pedestrian/bicycle overpass of the tracks, closing the crossing and carrying 39th Street over the tracks on structure, and closing the crossing and improving other nearby streets.

Agency and public involvement programs have been on-going in the Vancouver area since the proposal to institute intercity passenger service on the corridor was introduced several years ago. These have described the proposed action and solicited comment from citizens, organizations, and federal, state, and local agencies. Numerous public and agency meetings and open houses have been held, and comments and questions solicited and accepted via telephone, internet, public meetings, and the mail. In addition, targeted direct mail, advertisements, and media relations efforts have been used to reach the public and agencies. These types of efforts will continue throughout the environmental process for this proposal.

Advertisements offering interested persons the opportunity to attend and offer comments at a public hearing will be published prior to circulation of the draft environmental impact statement. Public notice of actions related to the proposal that identify the date, time, place of meetings, and the length of review periods will be published when appropriate.

To ensure that the full range of issues related to this proposed improvement program and its reasonable alternatives are addressed and all significant issues are identified, comments and suggestions are invited from all interested parties. Comments or questions concerning this proposed action and the EIS should be directed to the FHWA or FRA at the addresses provided above.

(Catalog of Federal Domestic Assistance Program Number 20.205, Highway Research, Planning and Construction. The regulations implementing Executive Order 12372 regarding intergovernmental consultation of federal programs and activities apply to this program)

Issued on: May 26, 2000.
Gary S. Hughes,
Operations Team Leader, Federal Highway Administration, Washington Division.

[FR Doc. 00-14652 Filed 6-8-00; 8:45 am]

BILLING CODE 4910-22-M